FEDERAL ELECTION COMMISSION

Sunshine Act Meetings

AGENCY: Federal Election Commission.

DATE AND TIME: Thursday, September 12, 2013 at 10:00 a.m.

PLACE: 999 E Street NW., Washington, DC (Ninth Floor).

STATUS: This meeting will be open to the public.

ITEMS TO BE DISCUSSED: Correction and Approval of Minutes for August 22, 2013;

Draft Advisory Opinion 2013-04: Democratic Governors Association and Jobs & Opportunity;

Draft Advisory Opinion 2013-12: Service Employees International Union and Service Employees International Union Committee on Political Education;

Draft Advisory Opinion 2013-14: Martin Long;

OGC Enforcement Manual (To be held over to future meeting);

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2013-22067 Filed 9-6-13; 11:15 am]

BILLING CODE 6715-01-P